DEPARTMENT OF THE INTERIOR

Bureau of Land Management

[LLCO-923000.L1440000.ET0000; COC 028643 & COC 28623]

Public Land Order No. 7866; Partial Withdrawal Revocation, Power Site Classification Nos. 56 and 351; Colorado

AGENCY: Bureau of Land Management, Interior.

ACTION: Public land order.

SUMMARY: This Order partially revokes a withdrawal created by Secretarial Orders dated June 30, 1923 and March 14, 1944, which established Power Site Classification Nos. 56 and 351, insofar as they affect 49.18 acres of National Forest System lands. This Order opens the lands to such uses as may be made of National Forest System lands subject to valid existing rights, the provisions of existing withdrawals, other segregations of record, and the requirements of applicable law.

DATES: This Public Land Order is effective on May 1, 2018.

FOR FURTHER INFORMATION CONTACT: John D. Beck, Bureau of Land Management, Colorado State Office, (303) 239-3882, or write: Branch of Lands and Realty, BLM Colorado State Office, 2850 Youngfield Street, Lakewood, Colorado 80215-7093. Persons who use a telecommunications device for the deaf (TDD) may call the Federal Relay Service (FRS) at 1-800-877-8339 to contact the above individual. The FRS is available 24 hours a day, 7 days a week. You will receive a reply during normal business hours.

SUPPLEMENTARY INFORMATION: The United States Forest Service requested partial revocation affecting portions of withdrawn lands classified for potential power site development. The Bureau of Land Management, in consultation with the Federal Energy Regulatory Commission (FERC), determined that the interests of the United States would not be injured by conveyance of the land out of Federal ownership. This Order opens the lands within PSC No. 56 to such uses as may be made of National Forest System lands subject to a Section 24 Federal Power Act reservation, and opens the lands within PSC No. 351 to such uses as may be made of National Forest System lands.

Order

By virtue of the authority vested in the Secretary of the Interior by Section 204 of the Federal Land Policy and Management Act of 1976, 43 U.S.C. 1714, and pursuant to the determination by the FERC, it is ordered as follows:

1. The withdrawal created by Secretarial Order dated June 30, 1923, which established Power Site Classification No. 56, is hereby revoked in part subject to the provisions of Section 24 of the Federal Power Act, as to the following described land:

6th Principal Meridian, Colorado

T. 9 S., R. 70 W.,

Sec. 10, Parcel A.

The area described contains 5.39 acres in the Pike National Forest, Douglas County.

2. The withdrawal created by Secretarial Order dated March 14, 1944, which established Power Site Classification No. 351, is hereby revoked in-part as to the following described land:

6th Principal Meridian, Colorado

T. 7 S., R. 73 W.,

Sec. 7, lots 5 and 7.

The area described contains 43.79 acres in the Pike National Forest, Park County.

3. At 9 a.m. on May 1, 2018 the lands described in Paragraph 1 and 2 are opened to such forms of disposition as may be made of National Forest System land, subject to valid existing rights, the provisions of existing withdrawals, other segregations of record, and the requirements of applicable law.

Joseph R. Balash,
Assistant Secretary—Land and Minerals Management.

[FR Doc. 2018-09184 Filed 4-30-18; 8:45 am]

BILLING CODE 3411-16-P